DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT:

OFAC: Associate Director for Global Targeting, tel.: 202-622-2420; Assistant Director for Licensing, tel.: 202-622-2480; Assistant Director for Regulatory Affairs, tel.: 202-622-4855; Assistant Director for Sanctions Compliance & Evaluation, tel.: 202-622-2490.

SUPPLEMENTARY INFORMATION: Case ID DPRK3-15706.

Electronic Availability

The Specially Designated Nationals and Blocked Persons List and additional information concerning OFAC sanctions programs are available on OFAC's website (www.treasury.gov/ofac).

Notice of OFAC Actions

On September 13, 2019 OFAC determined that the property and interests in property subject to U.S. jurisdiction of the following persons are blocked under the relevant sanctions authority listed below.

Entities

1. ANDARIEL, Korea, North; Secondary sanctions risk: North Korea Sanctions Regulations, sections 510.201 and 510.210 [DPRK3].

Identified as meeting the definition of the Government of North Korea as set forth in Section 9(d) of Executive Order 13722 because it is an agency, instrumentality, or controlled entity of the Government of North Korea.

2. BLUENOROFF (a.k.a. “APT 38”; a.k.a. “APT38”; a.k.a. “STARDUST CHOLLIMA”), Korea, North; Secondary sanctions risk: North Korea Sanctions Regulations, sections 510.201 and 510.210 [DPRK3].

Identified as meeting the definition of the Government of North Korea as set forth in Section 9(d) of Executive Order 13722 because it is an agency, instrumentality, or controlled entity of the Government of North Korea.

3. LAZARUS GROUP (a.k.a. “APPLEWORM”; a.k.a. “APT-C-26”; a.k.a. “GROUP 77”; a.k.a. “GUARDIANS OF PEACE”; a.k.a. “HIDDEN COBRA”; a.k.a. “OFFICE 91”; a.k.a. “RED DOT”; a.k.a. “TEMP.HERMIT”; a.k.a. “THE NEW ROMANTIC CYBER ARMY TEAM”; a.k.a. “WHOIS HACKING TEAM”; a.k.a. “ZINC”), Potonggang District, Pyongyang, Korea, North; Secondary sanctions risk: North Korea Sanctions Regulations, sections 510.201 and 510.210 [DPRK3].

Identified as meeting the definition of the Government of North Korea as set forth in Section 9(d) of Executive Order 13722 because it is an agency, instrumentality, or controlled entity of the Government of North Korea.

Dated: September 13, 2019.
Andrea Gacki,
Director, Office of Foreign Assets Control.

[FR Doc. 2019-21340 Filed 10-1-19; 8:45 am]

BILLING CODE 4810-AL-P